DEPARTMENT OF COMMERCE

National Oceanic and Atmospheric Administration

RIN 0648-XG958

Notice of Availability of the Deepwater Horizon Oil Spill Open Ocean Trustee Implementation Group Draft Restoration Plan 2 and Environmental Assessment: Fish, Sea Turtles, Marine Mammals, and Mesophotic and Deep Benthic Communities; Extension of Public Comment Period

AGENCY: National Marine Fisheries Service (NMFS), National Oceanic and Atmospheric Administration (NOAA), Department of Commerce.

ACTION: Notice of availability; request for comments; extension of comment period.

SUMMARY: We are extending the public comment period on our Deepwater Horizon Oil Spill Open Ocean Trustee Implementation Group Draft Restoration Plan 2/Environmental Assessment: Fish, Sea Turtles, Marine Mammals, and Mesophotic and Deep Benthic Communities (RP/EA). We opened the comment period via a May 15, 2019, notice of availability. This notice extends that comment period through July 15, 2019.

DATES: Comments must be submitted electronically or postmarked by July 15, 2019.

ADDRESSES:

Obtaining Documents: You may download the Draft RP/EA at: http://www.gulfspillrestoration.noaa.gov/restoration-areas/open-ocean. Alternatively, you may request a CD of the Draft RP/EA (see FOR FURTHER INFORMATION CONTACT below). Also, you may view the document at any of the public facilities listed in Appendix G.

Submitting Comments: You may submit comments on the Draft RP/EA by one of the following methods:

• Via the Web: http://www.gulfspillrestoration.noaa.gov/restoration-areas/open-ocean; or

• Via U.S. Mail: U.S. Fish and Wildlife Service, P.O. Box 29649, Atlanta, GA 30345. Please note that mailed comments must be postmarked on or before the comment deadline of July 15, 2019.

FOR FURTHER INFORMATION CONTACT: National Oceanic and Atmospheric Administration—Laurie Rounds, Laurie.Rounds@noaa.gov, (850) 934-9284.

SUPPLEMENTARY INFORMATION:

Introduction

In accordance with OPA NRDA regulations in the Code of Federal Regulations (CFR) at 15 CFR part 990, NEPA (42 U.S.C. 4321 et seq.), the Consent Decree, and the Final PDARP/PEIS, the Federal and State natural resource trustee agencies (Trustees) have prepared a Draft Restoration Plan 2/Environmental Assessment: Fish, Sea Turtles, Marine Mammals, and Mesophotic and Deep Benthic Communities. The Draft RP/EA analyzes 23 alternatives and proposes 18 preferred alternatives for the following restoration types: Fish and Water Column Invertebrates, Sea Turtles, Marine Mammals, and Mesophotic and Deep Benthic Communities:

Fish and Water Column Invertebrates

• Reduction of Post-Release Mortality from Barotrauma in Gulf of Mexico Reef Fish Recreational Fisheries—Preferred, $30,011,000.

• Better Bycatch Reduction Devices for the Gulf of Mexico Commercial Shrimp Trawl Fishery—Preferred, $17,171,000.

• Communication Networks and Mapping Tools to Reduce Bycatch—Phase 1—Preferred, $4,416,000.

• Restoring for Bluefin Tuna via Fishing Depth Optimization—Preferred, $6,175,000.

• Reduce the Impacts of Ghost Fishing by Removing Derelict Fishing Gear from Marine and Estuarine Habitats—Not Preferred, $6,128,000.

Sea Turtles

• Gulf of Mexico Sea Turtle Atlas—Preferred, $5,700,000.

• Identifying Methods to Reduce Sea Turtle Bycatch in the Reef Fish Bottom Longline Fishery—Preferred, $290,000.

• Developing a Gulf-wide Comprehensive Plan for In-Water Sea Turtle Data Collection—Preferred, $655,000.

• Developing Methods to Observe Sea Turtle Interactions in the Gulf of Mexico Menhaden Purse Seine Fishery—Preferred, $3,000,000.

• Reducing Juvenile Sea Turtle Bycatch Through Development of Reduced Bar Spacing in Turtle Excluder Devices—Preferred, $2,153,000.

• Long-term Nesting Beach Habitat Protection for Sea Turtles—Preferred, $7,000,000.

• Reducing Sea Turtle Entanglement from Recreational Fishing Debris—Not Preferred, $1,113,600.

• Reducing Sea Turtle Bycatch at Recreational Fishing Sites—Not Preferred, $1,329,000.

Marine Mammals

• Reducing Impacts to Cetaceans During Disasters by Improving Response Activities—Preferred, $4,287,000.

• Compilation of Environmental, Threats, and Animal data for Cetacean Population Health Analyses—Preferred, $5,808,500.

• Reduce Impacts of Anthropogenic Noise on Cetaceans—Preferred, $8,992,200.

• Reduce and Mitigate Vessel Strike Mortality of Cetaceans—Preferred, $3,834,000.

• Assessment of Northern Gulf of Mexico Shelf Small Cetacean Health, Habitat. Use, and Movement Patterns—Not Preferred, $4,620,000.

Mesophotic and Deep Benthic Communities

• Mapping, Ground-Truthing, and Predictive Habitat Modeling—Preferred, $35,909,000.

• Habitat Assessment and Evaluation—Preferred, $52,639,000.

• Coral Propagation Technique Development—Preferred, $16,951,000.

• Active Management and Protection—Preferred, $20,689,000.

• Habitat Characterization at Known High Priority Sites—Not Preferred, $21,500,000.

The Open Ocean TIG also analyzes a No Action alternative. One or more alternatives may be selected for implementation by the Open Ocean TIG in the Final RP/EA or in future restoration plans.

Background

For additional background information, see our original Federal Register notice, with which we opened the comment period (May 15, 2019; 84 FR 21753).

Invitation To Comment

The Open Ocean TIG seeks public review and comment on the Draft RP/EA (see ADDRESSES above). Before including your address, telephone number, email address, or other personal identifying information in your comment, please be aware that your entire comment, including your personal identifying information, will become part of the public record.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: June 26, 2019.
Carrie Selberg,
Deputy Director, Office of Habitat Conservation, National Marine Fisheries Service.

[FR Doc. 2019-13996 Filed 6-28-19; 8:45 am]

BILLING CODE 3510-22-P